DEPARTMENT OF THE INTERIOR

Fish and Wildlife Service

Kanuti National Wildlife Refuge, Alaska

AGENCY: U.S. Fish and Wildlife Service, Interior.

ACTION: Notice of Availability of the Draft Revised Comprehensive Conservation Plan and Environmental Assessment for Kanuti National Wildlife Refuge; request for comments; announcement of public meetings.

SUMMARY: We, the U.S. Fish and Wildlife Service (Service, we) announce that the Draft Revised Comprehensive Conservation Plan (CCP) and Environmental Assessment (EA) for the Kanuti National Wildlife Refuge is available for public comment. We prepared this CCP pursuant to the Alaska National Interests Land Conservation Act of 1980 (ANILCA), the National Wildlife Refuge System Administration Act of 1966 (Refuge Administration Act), as amended by the National Wildlife Refuge System Improvement Act of 1997 (Refuge Improvement Act), and the National Environmental Policy Act of 1969 (NEPA). In this plan, we describe how the Service proposes to manage this refuge over the next 15 years.

DATES: We must receive your comments on or before July 16, 2007.

ADDRESSES: To provide written comments or to request a paper copy or compact disk of the Draft CCP/EA, contact: Peter Wikoff, Planning Team Leader, U.S. Fish and Wildlife Service, 1011 East Tudor Rd., MS. 231, Anchorage, Alaska 99503, or at fw7_kanuti_planning@fws.gov, or at 907-786-3837. You may view or download a copy of the Draft CCP/EA at: http://www.r7.fws.gov/nwr/planning/plans.htm. Copies of the Draft CCP/EA may be viewed at the Kanuti Refuge Office in Fairbanks, Alaska; at local libraries; and at the U.S. Fish and Wildlife Service Regional Office in Anchorage, Alaska.

FOR FURTHER INFORMATION CONTACT: Peter Wikoff at the above address.

SUPPLEMENTARY INFORMATION: The National Wildlife Refuge System Administration Act of 1966, as amended by the Refuge Improvement Act of 1997 (16 U.S.C. 668dd et seq.), requires each refuge to develop and implement a CCP. The purpose of developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. We will review and update these CCPs at least every 15 years. The original CCP for the Kanuti Refuge was approved in 1987. After reviewing that plan, we decided to revise it to comply with current policies and to provide more complete management direction.

Background: The Kanuti National Wildlife Refuge was established on December 2, 1980 by ANILCA. The purposes for which the Kanuti National Wildlife Refuge was established include:

1. To conserve fish and wildlife populations and habitats in their natural diversity including, but not limited to, white-fronted geese and other waterfowl and migratory birds, moose, caribou (including participation in coordinated ecological studies and management of the Western Arctic caribou herd), and furbearers;

2. to fulfill the international treaty obligations of the United States with respect to fish and wildlife and their habitats;

3. to provide, in a manner consistent with the purposes set forth in 1 and 2 above, the opportunity for continued subsistence uses by local residents; and

4. to ensure, to the maximum extent practicable and in a manner consistent with the purposes set forth in 1 above, water quality and necessary water quantity within the refuge.

The refuge is roadless and lies on the Arctic Circle about 150 miles northwest of Fairbanks. It is situated in a broad basin formed by the Koyukuk and Kanuti rivers between the Brooks Range and the Ray Mountains. The Dalton Highway and Alyeska pipeline lie within eight miles of its eastern boundary. The refuge consists of nearly 1.3 million acres of Federal lands within an external boundary that encompasses approximately 1.6 million acres of Federal, State, and private lands. The landscape consists primarily of rolling hills, wetlands, ponds, and streams. Elevations range from 500 feet to over 3,000 feet. The major natural resources are wildlife, fisheries, and their associated habitats.

Issues and Alternatives: Conservation of the natural, unaltered character of the refuge: During scoping, many people expressed a desire that the refuge remain in a natural, wild state. They wanted minimal intrusion on natural systems and for the refuge to remain wild for the future. This was true for people from both urban and rural backgrounds. The Kanuti Refuge is one of the few refuges in Alaska that is both roadless and without permanent villages or towns. These characteristics help to maintain the natural wild state with minimal intrusion that people expressed a desire for during the scoping process. Acceptance and integration of new management policies and guidelines for refuges in Alaska into the plan: Management of refuges in Alaska is governed by Federal law including ANILCA and the Refuge Administration Act as amended by the Refuge Improvement Act, by regulations implementing these laws, by intergovernmental treaties, by Service policies, and by principles of sound resource management, all of which establish standards for resource management or limit the range of potential activities that may be allowed on refuges. Management policies and guidelines, described in the plan, were developed as part of the region-wide refuge comprehensive planning effort and provide direction for National Wildlife Refuges in the Alaska Region of the U.S. Fish and Wildlife Service. These policies and guidelines would be applied to the Kanuti National Wildlife Refuge. Management categories (wilderness, wild rivers, minimal, moderate, and intensive) are used to describe management levels throughout the refuges in Alaska. A management category is a set of refuge management directions applied to an area, in light of its resources and existing and potential uses, to facilitate management and the accomplishment of refuge purposes and goals. Two management categories, moderate and minimal, apply to the Kanuti Refuge.

Three alternatives for management of the refuge are evaluated in the EA.

Alternative A (the no-action alternative) is required by NEPA, describes what would happen under continuation of current management activities, and serves as a baseline against which to compare other alternatives. Under this alternative, management of the refuge would continue to follow the current course of action. Private and commercial uses of the refuge would be likely unchanged. Currently 33 percent of the refuge is in Moderate Management and 67 percent of the Refuge is in Minimal Management.

When the original plan was developed in 1987 two areas of Moderate Management were delineated, roughly corresponding to two major river drainages within the refuge. This was to allow more intensive habitat management activities to occur (e.g. water level management and mechanical manipulation of habitat). Though originally thought to be important to enhance the abundance of subsistence resources, subsequent studies showed that this level of manipulation was not needed. That aspect of the plan was never implemented.

Alternative A would continue to protect and maintain the existing wildlife values, natural diversity, and ecological integrity of the refuge. Human disturbances to fish and wildlife habitats and populations would be minimal except, potentially, in Moderate Management areas. Public uses of the refuge employing existing access methods would continue to be allowed. Opportunities to pursue traditional subsistence activities, and recreational hunting, fishing, and other wildlife-dependent activities, would be maintained. Opportunities to pursue research would be maintained.

Alternative B would convert all refuge lands now in Moderate Management to Minimal Management and incorporate the new policies and guidelines for refuges in Alaska. Management of the refuge would generally continue to follow the current course of action but would adopt a vision statement and set of goals developed in response to public scoping, that would implement low impact management.

Alternative B was designed to maintain the natural, unaltered character and ecological integrity of the refuge with little evidence of human-caused change. Disturbance to resources as a result of public uses, economic activities, and facilities would be minimized. Habitats would be allowed to change and function through natural processes. Because activities that could have been allowed under Moderate Management in the 1987 Plan were never implemented, the public would see little or no change under Alternative B despite the removal of areas from the Moderate Management category.

Alternative C (the preferred alternative) would convert a portion of the refuge lands now in Moderate Management, in the center of the refuge, to Minimal Management and would incorporate the new policies and guidelines for refuges in Alaska. With this change, 85 percent of the refuge would be in Minimal Management and 15 percent of the refuge would remain in Moderate Management. The areas remaining in Moderate Management are adjacent to private lands near the Koyukuk River in the northwestern portion of the refuge. Management activities would generally continue as with Alternative A.

Lands in Minimal Management would be managed to maintain their natural unaltered character and ecological integrity with little evidence of human-caused change. Moderate Management could allow some small-scale changes in the environment that do not disrupt natural processes. Though there may be signs of human activity, the natural landscape would remain the dominant feature. Moderate Management would allow more habitat manipulation than would Minimal Management, and permanent facilities may be constructed. It was anticipated that this flexibility may be needed due to the proximity of these areas to private lands, the river, and overland transportation routes.

Public availability of comments: Before including your name, address, phone number, e-mail address, or other personal identifying information in your comment, you should be aware that your entire comment—including your personal identifying information—may be made publicly available at any time. While you can ask us in your comment to withhold your personal identifying information from public review, we cannot guarantee that we will be able to do so.

Dated: May 8, 2007.
Thomas O. Melius,
Regional Director, U.S. Fish and Wildlife Service, Anchorage, Alaska.

[FR Doc. E7-9281 Filed 5-14-07; 8:45 am]

BILLING CODE 4310-55-P